DEPARTMENT OF COMMERCE

National Oceanic and Atmospheric Administration

[I.D. 042103B]

South Atlantic Fishery Management Council; Technical Workshops

AGENCY: NOAA Fisheries (NMFS), National Oceanic and Atmospheric Administration (NOAA), Commerce.

ACTION: Notice of workshop series to address Essential Fish Habitat (EFH), Fishery Ecosystem Plans (FEP) and Ecosystem Models.

SUMMARY: The South Atlantic Fishery Management Council (Council) will hold a series of technical workshops involving selected members from its Habitat and Environmental Protection Advisory Panel, Coral Advisory Panel and invited scientists with background in specific habitat type or species utilization patterns.

DATES: The workshops will be held during the months of May, July, August, September and October. See SUPPLEMENTARY INFORMATION for specific dates and times.

ADDRESSES: The workshop series will be held in St. Petersburg, FL, Beaufort, NC, and Charleston, SC. See SUPPLEMENTARY INFORMATION for specific locations.

FOR FURTHER INFORMATION CONTACT: Kim Iverson, Public Information Officer, South Atlantic Fishery Management Council, One Southpark Circle, Suite 306, Charleston, SC, 29407; telephone: (843) 571-4366 or (866) SAFMC-10; fax: (843) 769-4520.

SUPPLEMENTARY INFORMATION: The workshops will take place: May 19-21,2003, May 21-23, 2003, July 1-2, 2003, August 19-21, 2003, September 23-25, 2003 and October 20-22, 2003.

The workshop process will initiate development of a South Atlantic Council Fishery Ecosystem Plan (FEP) which presents fishery and resource information for fisheries in the South Atlantic Bight ecosystem in context. The workshop processes will integrate two directives in the Final Rule for Essential Fish Habitat: (1) Review and update Essential Fish Habitat information, and (2) Consider ecosystem-based management through development of a Fishery Ecosystem Plan for the South Atlantic Region.

The Council recognizes the scope of the significant task necessary to meet the new essential fish habitat mandates and directive to begin evaluating ecosystem-based management through the development of a Fishery Ecosystem Plan (FEP) and is again calling upon the Habitat Advisory Panel members and other technical experts involved in the previous Habitat Plan development process to serve as or identify appropriate experts to function on a quasi-plan development team for this task. The Habitat and Coral Advisory Panel are scheduled to meet this fall and will provide additional guidance on the workshop process and ecosystem management.

A Final EFH Rule was published on January 17, 2002 replacing the interim Final Rule of December 19, 1997 on which the original EFH and EFH-Habitat Area of Particular Concern (HAPC) designations were made. The Councils have, pursuant to the Final EFH Rule, been directed to update EFH and EFH-HAPC information and designations; in addition, pursuant to revisions to NOAA General Counsel interpretation of the National Environmental Policy Act the Councils will be required to update all Environmental Impact Statements for all Federal Fishery Management Plans under their jurisdiction. Information compiled during this process will further facilitate meeting both the EFH and the NEPA mandate. As was done with the original Habitat Plan, a series of technical workshops will be conducted by Council habitat staff, in cooperation with NOAA Beaufort Laboratory, NMFS Southeast Fishery Science Center Miami Laboratory, NMFS Southeast Regional Office personnel and invited participants. Workshops are intended to build on a review of existing information presented in the Habitat Plan, and focus on updating information pursuant to the new EFH Rule. This effort will begin the integration of comprehensive details of habitat distribution and characterization, the biology of managed species including their biological role in and the characteristics of the food web they exist in.

Essential Fish Habitat (EFH), Fishery Ecosystem Plan (FEP) Development and Ecosystem Model Technical Workshop Schedule:

May 19-21, 2003—EFH/FEP Development Technical Workshops #3-#6, Wetlands (Submerged Aquatic Vegetation & Mangroves), Pelagic Habitat (Sargassum and Water Column)

May 19, 2003, 1 p.m.-5 p.m.; May 20, 2003, 8:30 a.m.-5 p.m. and May 21, 2003 from 8:30 a.m.-12 noon

Location: NOAA Beaufort Lab, 101 Pivers Island Road, Beaufort, NC 28516; telephone: (252) 728-8746.

May 21-23, 2003—South Atlantic Ecosystem Modeling Development Workshop #1.

May 21, 2003, 1 p.m.-5 p.m.; May 22, 2003, 8:30 a.m.-5 p.m.; and May 23, 2003, 8:30 a.m. 3 p.m.

Location: NOAA Beaufort Lab, 101 Pivers Island Road, Beaufort, NC 28516; telephone: (252) 728-8746.

July 1-2, 2003—EFH/FEP Development Technical Workshop #7 GIS

July 1, 2003, 8:30 a.m.-5 p.m., and July 2, 2003, 8:30 a.m.-3 p.m.

Location: Florida Marine Research Institute, 100 Eighth Avenue, S.E., St. Petersburg, FL 33701; telephone: (727) 896-8626.

August 19-21, 2003—EFH/FEP Development Technical Workshops #8-#10, Marsh, Oyster/Shell Habitat and Water Issues

August 19, 2003, 1 p.m.-5 p.m., August 20, 2003, 8:30 a.m.-5 p.m., and August 21, 2003, 8:30 a.m.-3 p.m.

Location: Town and Country Inn, 2008 Savannah Highway, Charleston, SC 29407; telephone: (843) 571-1000.

September 23-25, 2003—South Atlantic Ecosystem Modeling Workshop #2

September 23, 2003, 1 p.m.-5 p.m., September 24, 2003, 8:30 a.m.-5 p.m., September 25, 2003, 8:30 a.m.-3 p.m.

Location: Florida Marine Research Institute, 100 Eighth Avenue, S.E., St. Petersburg, FL 33701; telephone: (727) 896-8626.

October 20-21, 2003—EFH/Ecosystem Workshop #11 - Impacts of Fishing on Habitat

October 20, 2003, 1 p.m.-5 p.m., October 21, 2003, 8:30 a.m.-12 noon

October 21-22, 2003—EFH/Ecosystem Workshop #12, Research and Monitoring

October 21, 2003, 1 p.m.—5 p.m. and October 22, 2003, 8:30 a.m.—5 p.m.

Location: Town and Country Inn, 2008 Savannah Highway, Charleston, SC 29407; telephone: (843) 571-1000.

Although non-emergency issues not contained in this agenda may come before these groups for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see FOR FURTHER INFORMATION CONTACT) at least 5 business days prior to each workshop.

Dated: April 21, 2003.
Matteo J. Milazzo,
Acting Director, Office of Sustainable Fisheries, National Marine Fisheries Service.

[FR Doc. 03-10280 Filed 4-24-03; 8:45 am]

BILLING CODE 3510-22-S